DEPARTMENT OF ENERGY

Federal Energy Regulatory Commission

Combined Notice of Filings #1

Take notice that the Commission received the following electric rate filings:

Docket Numbers: ER10-3145-010; ER10-1728 010; ER10-1800 011; ER10-3116 010; ER10-3120 010; ER10-3128 010; ER10-3136 010; ER11-2036 010; ER11-2701 012; ER13-1544 007; ER15-1579 008; ER15-1582 009; ER15-1914 010; ER15-2679 006; ER15-2680 006; ER15-760 009; ER15-762 010; ER16-1255 004; ER16-1738 004; ER16-1901 004; ER16-1955 004; ER16-1956 004; ER16-1973 004; ER16-2201 003; ER16-2224 003; ER16-2541 003; ER16-2578 004; ER16-468 004; ER16-474 005; ER16-890 005; ER16-930 004; ER17-1864 002; ER17-1871 002; ER17-1909 002; ER17-306 003; ER17-544 003.

Applicants: AES Alamitos, LLC, AES Energy Storage, LLC, AES ES Tait, LLC, AES Huntington Beach, L.L.C., AES Laurel Mountain, LLC, AES Ohio Generation, LLC, AES Redondo Beach, L.L.C., Indianapolis Power & Light Company, Mountain View Power Partners, LLC, Mountain View Power Partners IV, LLC, Dayton Power and Light Company, The, 65HK 8me LLC, 67RK 8me LLC, 87RL 8me LLC, Antelope Big Sky Ranch LLC, Antelope DSR 1, LLC, Antelope DSR 2, LLC, Bayshore Solar A, LLC, Bayshore Solar B, LLC, Bayshore Solar C, LLC, Beacon Solar 1, LLC, Beacon Solar 3, LLC, Beacon Solar 4, LLC, Central Antelope Dry Ranch C LLC, Elevation Solar C LLC, FTS Master Tenant 1, LLC, Latigo Wind Park, LLC, North Lancaster Ranch LLC, Pioneer Wind Park I LLC, Sandstone Solar LLC, Sierra Solar Greenworks LLC, Solverde 1, LLC, Summer Solar LLC, Western Antelope Blue Sky Ranch A LLC, Western Antelope Blue Sky Ranch B LLC, Western Antelope Dry Ranch LLC.

Description: Supplement to December 18, 2017 Triennial Market Power Update of the AES MBR Affiliates for the Central Region.

Filed Date: 4/6/18.

Accession Number: 20180406-5078.

Comments Due: 5 p.m. ET 4/27/18.

Docket Numbers: ER13-102-013.

Applicants: New York Independent System Operator, Inc.

Description: Compliance filing: Correction to tariff base in March 19 Order 1000 compliance to be effective 4/1/2016.

Filed Date: 4/6/18.

Accession Number: 20180406-5049.

Comments Due: 5 p.m. ET 4/27/18.

Docket Numbers: ER18-482-001.

Applicants: Public Service Company of Colorado.

Description: Tariff Amendment: OATT_Att O-PSCo Deprec Tbl 25-Defer Action to be effective 12/31/9998.

Filed Date: 4/6/18.

Accession Number: 20180406-5055.

Comments Due: 5 p.m. ET 4/27/18.

Docket Numbers: ER18-1306-000.

Applicants: The Connecticut Light and Power Company.

Description: Tariff Cancellation: Cancellation of Beacon Falls Energy Park Original Service Agreement No. IA-ES-36 to be effective 3/9/2018.

Filed Date: 4/6/18.

Accession Number: 20180406-5009.

Comments Due: 5 p.m. ET 4/27/18.

Docket Numbers: ER18-1307-000.

Applicants: New York Independent System Operator, Inc.

Description: § 205(d) Rate Filing: 205 filing: Informational calculations re: Net Congestion Rent Settlements to be effective 6/6/2018.

Filed Date: 4/6/18.

Accession Number: 20180406-5051.

Comments Due: 5 p.m. ET 4/27/18.

Docket Numbers: ER18-1308-000.

Applicants: New York Independent System Operator, Inc.

Description: § 205(d) Rate Filing: 205 filing re: modify projected True-Up exposure credit requirement to be effective 6/12/2018.

Filed Date: 4/6/18.

Accession Number: 20180406-5069.

Comments Due: 5 p.m. ET 4/27/18.

Docket Numbers: ER18-1309-000.

Applicants: Southwest Power Pool, Inc.

Description: § 205(d) Rate Filing: 2252R6 Cottonwood Wind Project GIA to be effective 3/28/2018.

Filed Date: 4/6/18.

Accession Number: 20180406-5080.

Comments Due: 5 p.m. ET 4/27/18.

Docket Numbers: ER18-1310-000.

Applicants: Wheelabrator Millbury Inc.

Description: Baseline eTariff Filing: Baseline new to be effective 4/7/2018.

Filed Date: 4/6/18.

Accession Number: 20180406-5113.

Comments Due: 5 p.m. ET 4/27/18.

Docket Numbers: ER18-1311-000.

Applicants: PJM Interconnection, L.L.C.

Description: § 205(d) Rate Filing: First Revised WMPA SA No. 4825; Queue No. AC2-168/AD1-135 to be effective 3/8/2018.

Filed Date: 4/6/18.

Accession Number: 20180406-5115.

Comments Due: 5 p.m. ET 4/27/18.

Docket Numbers: ER18-1312-000.

Applicants: Mid-Atlantic Interstate Transmission, LLC, PJM Interconnection, L.L.C.

Description: § 205(d) Rate Filing: MAIT submits IA SA Nos. 3818, 3996 and 5050 and IFA SA No. 5049 to be effective 2/1/2017.

Filed Date: 4/6/18.

Accession Number: 20180406-5124.

Comments Due: 5 p.m. ET 4/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2018.
Nathaniel J. Davis, Sr.,
Deputy Secretary.

[FR Doc. 2018-07878 Filed 4-13-18; 8:45 am]

BILLING CODE 6717-01-P